DEPARTMENT OF TRANSPORTATION

Office of the Secretary

Aviation Proceedings, Agreements Filed the Week Ending August 12, 2005

The following Agreements were filed with the Department of Transportation under the sections 412 and 414 of the Federal Aviation Act, as amended (49 U.S.C. 1382 and 1384) and procedures governing proceedings to enforce these provisions. Answers may be filed within 21 days after the filing of the application.

Docket Number: OST-2005-22076.

Date Filed: August 8, 2005.

Parties: Members of the International Air Transport Association

Subject: Mail Vote 451—Resolution 010r TC3 0871—Japan, Korea-South East Asia, Special Passenger Amending Resolution between Japan and Russia (in Asia). Intended effective date: August 9, 2005.

Docket Number: OST-2005-22127.

Date Filed: August 11, 2005.

Parties: Members of the International Air Transport Association.

Subject: GVA/GEN/001/005 dated May 6, 2005 and GVA/GEN/002/005 dated June 28, 2005, i.e. Resolution 801r. Intended effective date: October 1, 2005.

Renee V. Wright,
Program Manager, Docket Operations, Federal Register Liaison.

[FR Doc. 05-17004 Filed 8-25-05; 8:45 am]

BILLING CODE 4910-62-P